DEPARTMENT OF JUSTICE

[OMB Number 1121-0111]

Agency Information Collection Activities: Proposed eCollection eComments Requested; Extension of a Currently Approved Collection; Comments Requested: National Crime Victimization Survey (NCVS)

AGENCY: Office of Justice Programs, Department of Justice.

ACTION: 30-Day notice.

SUMMARY: The Bureau of Justice Statistics, Office of Justice Programs, Department of Justice (DOJ), will be submitting the following information collection request to the Office of Management and Budget (OMB) for review and approval in accordance with the Paperwork Reduction Act of 1995. The proposed information collection was previously published in the Federal Register allowing a 60-day comment period. Following publication of the 60-day notice, the Bureau of Justice Statistics received two requests for the survey instrument, one communication indicating a suggestion for collection of data and indications support for the continued administration of the survey and two communications indicating support for the continued administration of the survey, which are addressed in Supporting Statement A.

DATES: Comments are encouraged and will be accepted for 30 days until October 20, 2021.

FOR FURTHER INFORMATION CONTACT: If you have additional comments especially on the estimated public burden or associated response time, suggestions, or need a copy of the proposed information collection instrument with instructions or additional information, please contact Erika Harrell, Statistician, Bureau of Justice Statistics, 810 Seventh Street NW, Washington, DC 20531 (email: Erika.Harrell@usdoj.gov; telephone: 202-307-0758).

SUPPLEMENTARY INFORMATION: Written comments and recommendations for the proposed information collection should be sent within 30 days of publication of this notice to www.reginfo.gov/public/do/PRAMain. Find this particular information collection by selecting “Currently under 30-day Review—Open for Public Comments” or by using the search function. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) The Title of the Form/Collection: National Crime Victimization Survey.

(3) The agency form number, if any, and the applicable component of the Department sponsoring the collection: The form numbers for the questionnaire are NCVS-1 and NCVS-2. The applicable component within the Department of Justice is the Bureau of Justice Statistics, in the Office of Justice Programs.

(4) Affected public who will be asked or required to respond, as well as a brief abstract:

The National Crime Victimization Survey (NCVS) is administered to persons 12 years or older living in sampled households located throughout the United States. The NCVS collects, analyzes, publishes, and disseminates statistics on the criminal victimization in the U.S. BJS plans to publish information from the NCVS in reports and reference it when responding to queries from the U.S. Congress, Executive Office of the President, the U.S. Supreme Court, state officials, international organizations, researchers, students, the media, and others interested in criminal justice statistics.

(5) An estimate of the total number of respondents and the amount of time estimated for an average respondent to respond: The estimated annual number of respondents is 124,663. It will take the average interviewed respondent an estimated 25 minutes to respond; the average non-interviewed respondent an estimated 7 minutes to respond; the average follow-up interview is estimated at 15 minutes, and the average follow-up for a non-interview is estimated at 1 minute.

(6) An estimate of the total public burden (in hours) associated with the collection: There are an estimated 117,545 annual burden hours associated with this collection.

If additional information is required contact: Melody Braswell, Department Clearance Officer, United States Department of Justice, Justice Management Division, Policy and Planning Staff, Two Constitution Square, 145 N Street NE, 3E.405A, Washington, DC 20530.

Dated: September 15, 2021.
Melody Braswell,
Department Clearance Officer for PRA, U.S. Department of Justice.

[FR Doc. 2021-20261 Filed 9-17-21; 8:45 am]

BILLING CODE 4410-18-P